DEPARTMENT OF EDUCATION

[Docket No.: ED-2024-SCC-0096]

Agency Information Collection Activities; Submission to the Office of Management and Budget for Review and Approval; Comment Request; Federal Student Aid (FSA) Partner Connect System and User Access Management

AGENCY: Federal Student Aid (FSA), Department of Education (ED).

ACTION: Notice.

SUMMARY: In accordance with the Paperwork Reduction Act (PRA) of 1995, the Department is proposing a new information collection request (ICR).

DATES: Interested persons are invited to submit comments on or before November 7, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, (202) 570-8414.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Federal Student Aid (FSA) Partner Connect System and User Access Management.

OMB Control Number: 1845-NEW.

Type of Review: New ICR.

Respondents/Affected Public: Private Sector; State, Local, and Tribal Governments.

Total Estimated Number of Annual Responses: 48,600.

Total Estimated Number of Annual Burden Hours: 10,196.

Abstract: This is a request for a new information collection. Federal Student Aid (FSA) Partner Connect will be replacing Student Aid internet Gateway (SAIG) Enrollment via fsawebenroll.ed.gov. SAIG Mailboxes will remain as the access point for electronically transmitting and receiving data. FSA Partner Connect System and User Access Management allows authorized entities, including postsecondary educational institutions, institutional third-party servicers, guaranty agencies and guaranty agency (GA) servicers, Federal Family Education Loan Program (FFELP) lenders and lender servicers, federal loan servicers, and State Higher Education Agencies, to exchange data electronically with the U.S. Department of Education (Department). In order to participate, each entity must enroll for system and service access through FSA Partner Connect (fsapartners.ed.gov). The enrollment process enables the organization enrolling to create new users and select services to receive, submit, view, and/or update student financial aid data online and by batch using Department provided software EDconnect (PC-based software) or TDClient (client software for multiple environments). As authorized by the Higher Education Act of 1965, as amended (HEA); 20 U.S.C. 1070 et seq., and in order to manage the Title IV, HEA assistance programs, the entities listed above may electronically transmit and receive data from the following FSA systems through SAIG Mailboxes by enrolling through FSA Partner Connect:

Free Application for Federal Student Aid (FAFSA) Processing System (FPS)

Common Origination and Disbursement (COD) System

National Student Loan Data System (NSLDS) Online

Electronic Cohort Default Rate (eCDR) Appeals

Total and Permanent Disability (TPD) System

Digital Customer Care (DCC) Customer Relationship Management (CRM) Online

Access and Identity Management System (AIMS)

Financial Management System (FMS)

Additionally, entities may request access to eZ-Audit and the U.S. Department of Homeland Security's Systemic Alien Verification Entitlements (SAVE) Program through FSA Partner Connect to manage Title IV, HEA assistance programs.

Dated: October 2, 2024.
Kun Mullan,
PRA Coordinator, Strategic Collections and Clearance, Governance and Strategy Division, Office of Chief Data Officer, Office of Planning, Evaluation and Policy Development.

[FR Doc. 2024-23178 Filed 10-7-24; 8:45 am]

BILLING CODE 4000-01-P